DEPARTMENT OF TRANSPORTATION

Federal Aviation Administration

14 CFR Part 39

[Docket No. 2001-NM-201-AD]

RIN 2120-AA64

Airworthiness Directives; Airbus Model A310 Series Airplanes

AGENCY: Federal Aviation Administration, DOT.

ACTION: Notice of proposed rulemaking (NPRM).

SUMMARY: This document proposes the adoption of a new airworthiness directive (AD) that is applicable to all Airbus Model A310 series airplanes. This proposal would require inspecting the pressure-off brakes (POBs) installed on the power control units of the slats and flaps to determine their serial numbers; and replacing any POBs having affected serial numbers with new, serviceable, or modified POBs. This action is necessary to prevent failure of the retaining ring on the POBs, which could result in slat or flap blowback or runaway, with consequent reduced controllability of the airplane. This action is intended to address the identified unsafe condition.

DATES: Comments must be received by May 3, 2004.

ADDRESSES: Submit comments in triplicate to the Federal Aviation Administration (FAA), Transport Airplane Directorate, ANM-114, Attention: Rules Docket No. 2001-NM-201-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-201-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-201-AD.” The postcard will be date stamped and returned to the commenter.

Availability of NPRMs

Any person may obtain a copy of this NPRM by submitting a request to the FAA, Transport Airplane Directorate, ANM-114, Attention: Rules Docket No. 2001-NM-201-AD, 1601 Lind Avenue, SW., Renton, Washington 98055-4056.

Discussion

The Direction Générale de l'Aviation Civile (DGAC), which is the airworthiness authority for France, notified the FAA that an unsafe condition may exist on all Airbus Model A310 series airplanes. The DGAC advises that the manufacturer has found that some pressure-off brakes (POBs) installed on the power control units of the slats and flaps have been operated beyond the allowable life limit of 12,000 flight cycles. This condition, if not corrected, could result in failure of the retaining ring on the POBs, which could result in slat or flap blowback or runaway, with consequent reduced controllability of the airplane.

Explanation of Relevant Service Information

Airbus has issued Service Bulletin A310-27-2096, Revision 01, dated September 19, 2001, which describes procedures for inspecting the POBs installed on the power control units of the slats and flaps to determine the serial numbers of those POBs, and replacing affected POBs with new, serviceable, or modified POBs. The DGAC classified a previous issue of that service bulletin as mandatory and issued French airworthiness directive 2001-185(B), dated May 16, 2001, to ensure the continued airworthiness of these airplanes in France.

The Airbus service bulletin refers to Liebherr-Aerospace Lindenberg Service Bulletin 511A0100-27-03, dated November 16, 2000, as the appropriate source of information for identifying the serial numbers of POBs that must be replaced, and as a source for additional service information for replacing the POBs.

FAA's Conclusions

This airplane model is manufactured in France and is type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the Airbus service bulletin described previously, except as discussed below.

Differences Between Proposed AD and Referenced Service Bulletins

Operators should note the following differences among the proposed AD and referenced service bulletins:

• Although the Accomplishment Instructions of the referenced service bulletins describe procedures for reporting inspection results to the manufacturer, this proposed AD would not require such reporting.

• Although the Accomplishment Instructions of the Liebherr-Aerospace Lindenberg service bulletin specify that POBs with affected serial numbers must be returned to the POB manufacturer, this proposed AD would not require this action.

• Although the Airbus service bulletin states that, “if the affected POB is not available,” the POB may be replaced at the next scheduled “A”-check, this proposed AD would require replacement of any affected POB with a new, serviceable, or modified POB before further flight. We have determined that the compliance time of 18 months for performing the required inspection to determine whether an affected POB is installed on the airplane provides an appropriate interval of time in which any required parts can be obtained.

Cost Impact

We estimate that 46 airplanes of U.S. registry would be affected by this proposed AD, that it would take approximately 1 work hour per airplane to accomplish the proposed actions, and that the average labor rate is $65 per work hour. Based on these figures, the cost impact of the proposed AD on U.S. operators is estimated to be $2,990, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-201-AD.

Applicability: All Model A310 series airplanes; certificated in any category.

Compliance: Required as indicated, unless accomplished previously.

To prevent failure of the retaining ring on the pressure-off brakes (POBs) of the power control units of the slats and flaps, which could result in slat or flap blowback or runaway, with consequent reduced controllability of the airplane, accomplish the following:

Inspection

(a) Within 18 months after the effective date of this AD: Inspect the identification plates of the POBs installed on the power control units of the slats and flaps to determine the serial numbers of the POBs, in accordance with the Accomplishment Instructions of Airbus Service Bulletin A310-27-2096, Revision 01, dated September 19, 2001.

Note 1: Airbus Service Bulletin A310-27-2096, Revision 01, dated September 19, 2001, refers to Liebherr-Aerospace Lindenberg Service Bulletin 511A0100-27-03, dated November 16, 2000, as the appropriate source for identifying affected serial numbers of POBs, and as an additional source of service information for replacing affected POBs.

Replacement

(b) For any POB with an affected serial number, as identified in Airbus Service Bulletin A310-27-2096, Revision 01, dated September 19, 2001: Before further flight, replace the POB with a new or serviceable POB that does not have an affected serial number, or with a POB that has been modified per the Accomplishment Instructions of Airbus Service Bulletin A310-27-2096, Revision 01, dated September 19, 2001. Replace the POB per the Accomplishment Instructions of Airbus Service Bulletin A310-27-2096, Revision 01, dated September 19, 2001.

Actions Accomplished Previously

(c) Inspections and replacements accomplished before the effective date of this AD per Airbus Service Bulletin A310-27-2096, dated March 21, 2001, are acceptable for compliance with the corresponding actions required by this AD.

Parts Installation

(d) As of the effective date of this AD, no person may install, on any airplane, a POB with a part number and serial number listed in Airbus Service Bulletin A310-27-2096, Revision 01, dated September 19, 2001.

No Reporting or Return of Parts Is Required

(e) Although the service bulletins referenced in this AD specify to submit certain information and return POBs with affected serial numbers to the POB manufacturer, this AD does not include such a requirement.

Alternative Methods of Compliance

(f) In accordance with 14 CFR 39.19, the Manager, International Branch, ANM-116, Transport Airplane Directorate, FAA, is authorized to approve alternative methods of compliance for this AD.

Note 2: The subject of this AD is addressed in French airworthiness directive 2001-185(B), dated May 16, 2001.

Issued in Renton, Washington, on March 25, 2004.
Kalene C. Yanamura,
Acting Manager, Transport Airplane Directorate, Aircraft Certification Service.

[FR Doc. 04-7292 Filed 3-31-04; 8:45 am]

BILLING CODE 4910-13-P